POSTAL SERVICE

Governors; Sunshine Act Meeting

DATE AND TIME: August 26, 2015, at 3 p.m.

PLACE: Washington, DC, via Teleconference.

STATUS: Governors Vote to Close August 26, 2015, Meeting: By telephone vote on August 26, 2015, the Governors of the United States Postal Service met and voted unanimously to close to public observation their meeting held in Washington, DC, via teleconference. The Governors determined that no earlier public notice was possible.

MATTERS CONSIDERED: 1. Personnel and Compensation Matters.

GENERAL COUNSEL CERTIFICATION: The General Counsel of the United States Postal Service has certified that the meeting was properly closed under the Government in the Sunshine Act.

CONTACT PERSON FOR MORE INFORMATION: Requests for information about the meeting should be addressed to the Secretary of the Board, Julie S. Moore, at 202-268-4800.

Julie S. Moore,
Secretary, Board of Governors.

[FR Doc. 2015-21661 Filed 8-28-15; 11:15 am]

BILLING CODE 7710-12-P